DEPARTMENT OF COMMERCE

National Oceanic and Atmospheric Administration

RIN 0648-XA135

Endangered and Threatened Species; Take of Anadromous Fish

AGENCY: National Marine Fisheries Service (NMFS), National Oceanic and Atmospheric Administration (NOAA), Commerce.

ACTION: Notice of issuance of permits.

SUMMARY: NMFS has issued permit 13675 to Fishery Foundation of California [Responsible Party: Karen L. Burr], 8698 Elk Grove Blvd., Suite #3, Elk Grove, CA 95624; and permits 14685 and 14688 to Natural Resource Scientists, Incorporated [Responsible Party: Dave A. Vogel], P.O. Box 1210, Red Bluff, CA 96080; for purposes of scientific research.

ADDRESSES: Permits and related documents are available for review upon written request or by appointment in the following office(s): Permits, Conservation and Education Division, Office of Protected Resources, NMFS, 13415 East-West Highway, Room 13705, Silver Spring, MD 20910; phone (301) 713-2289; fax (301) 427-2521; and NMFS, Protected Resources Division, 650 Capitol Mall, Suite 5-100, Sacramento, CA 958914-4706; phone (916) 930-3600; fax (916) 930-3629.

FOR FURTHER INFORMATION CONTACT: Shirley Witalis at phone number (916) 930-3606, or e-mail shirley.witalis@noaa.gov.

SUPPLEMENTARY INFORMATION: This notice is relevant to federally endangered Sacramento River winter-run Chinook salmon (Oncorhynchus tshawytscha), threatened Central Valley spring-run Chinook salmon (O. tshawytscha), threatened Central Valley steelhead (O. mykiss), and threatened Southern Distinct Population Segment of North American green sturgeon (Acipenser medirostris). Permits 13675, 14685, and 14688 have been issued under the authority of the Endangered Species Act of 1973, as amended (ESA; 16 U.S.C. 1531 et seq.) and the regulations governing the taking, importing, and exporting of endangered and threatened species (50 CFR parts 222-226).

Permits

Permit 13675 was issued to Fishery Foundation of California on December 28, 2010, authorizing the capture (by fyke net and beach seine), handling (species identification and enumeration, taking of length measurements), and release of ESA-listed natural and hatchery juvenile Chinook salmon and steelhead, and natural juvenile green sturgeon while carrying out a study measuring fish response to restoration actions, and initial and successional habitat conditions at the Fremont Landing Conservation Bank on the Sacramento River in the Central Valley, California. Permit 13675 authorizes indirect mortality associated with research activities not to exceed 2 percent of captured ESA-listed Chinook salmon and steelhead species annually. No indirect mortality has been authorized for green sturgeon. Permit 13675 expires on October 31, 2015.

Permit 14685 was issued to Natural Resource Scientists, Incorporated on August 24, 2010, authorizing the observation (snorkel surveys), capture (by rotary screw trap and beach seine), handling (application of anesthesia, species identification and enumeration, taking of weight and length measurements), and release of adult and juvenile steelhead associated with monitoring and research on anadromous salmonid spawning and rearing habitats, migration timing and survival in the lower Merced River. Permit 14685 authorizes indirect mortality associated with research activities not to exceed 2 adult and 5 juvenile ESA-listed steelhead annually. Permit 14685 expires on December 31, 2015.

Permit 14688 was issued to Natural Resource Scientists, Incorporated on September 21, 2010, authorizing the capture (by fyke net), handling (identification and enumeration of species, taking of length measurements), tissue sampling, release of moribund fish or fish carcasses back into irrigation diversion canals, and release of live fish on the riverside of the canals of ESA-listed juvenile salmonids and sturgeon. Permit 14688 authorizes non-lethal take during the collection of physical, hydraulic, and habitat data at five irrigation diversion canals; the research of fish entrainiment in relation to diverted river flows; and the development of prioritization criteria for fish screening projects. Permit 14688 expires on December 31, 2011.

NMFS has determined that take levels authorized in the described permits will not jeopardize listed Chinook salmon, steelhead, and green sturgeon nor result in the destruction or adverse modification of critical habitat where described. NMFS' conditions in the permits will ensure that the take of ESA-listed anadromous fish will not jeopardize the continued existence of the listed species. Issuance of each permit, as required by the ESA, was based on a finding that such permit (1) was applied for in good faith; (2) will not operate to the disadvantage of any endangered or threatened species, and (3) is consistent with the purposes and policies set forth in section 2 of the ESA.

Dated: January 10, 2011.
Therese Conant,
Acting Chief, Endangered Species Division, Office of Protected Resources, National Marine Fisheries Service.

[FR Doc. 2011-795 Filed 1-13-11; 8:45 am]

BILLING CODE 3510-22-P